COMMISSION ON CIVIL RIGHTS

Sunshine Act Notice

Agency: U.S. Commission on Civil Rights.

Date and Time: Monday, April 3, 2006, 2 p.m.

Place: U.S. Commission on Civil Rights, 624 9th Street, NW., Washington, DC 20425. Via Teleconference. Public Call-In number: 1-800-377-4872. Access Code Number: 48734967. Federal Relay Service: 1-800-877-8339.

Status:

Agenda

I. Approval of Agenda

II. Campus Anti-Semitism: Findings and Recommendations

III. Future Business

IV. Adjournment

Contact Person for Further Information: To ensure that the Commission secures an appropriate number of lines for the public, persons are asked to register by contacting Audrey Wright of the Office of the Staff Director at (202) 376-7700 or TTY (202) 376-8116, by noon (EST) on Thursday, April 2, 2006.

Any interested member of the public may call the above call-in number and listen to the meeting. Caller will incur no charges for calls using the call-in number overland-line connections. Persons with hearing impairments may also follow the proceedings by first calling the Federal Relay Service and providing the Service with the call-in number and access code.

Kenneth L. Marcus,
Staff Director, Acting General Counsel.

[FR Doc. 06-2965 Filed 3-23-06; 11:34 am]

BILLING CODE 6335-01-M